DEPARTMENT OF COMMERCE

National Oceanic and Atmospheric Administration

[Docket No. 000616180-2002-04]

RIN 0648-ZA91

NOAA Climate and Global Change Program, Program Announcement; Global Carbon Cycle Element, FY 2002

AGENCY: Office of Global Programs (OGP), National Oceanic and Atmospheric Administration (NOAA), Commerce.

ACTION: Notice of request for applications.

SUMMARY: This notice serves the following purpose: To announce an opportunity for FY 2002 funding for the Global Carbon Cycle program area. Details of program emphases and topic areas can be found below in supplementary information, and in the GCC program information sheet at: http://www.ogp.noaa.gov/mpe/gcc/index/html.

Potential applicants should look at the specific wording of the initial Federal Register notice (cited below in SUPPLEMENTARY INFORMATION).

DATES: Letters of intent must be received at the Office of Global Programs (OGP) no later than February 15, 2002. Applicants who have not received a response to their letter of intent within two weeks should contact the Program Manager. Full proposals must be received at OGP no later than March 29, 2002, except for repeat hydrography proposals to be jointly considered with the National Science Foundation (NSF), which must be received no later than March 5, 2002, as noted below under supplementary information. We anticipate that review of full proposals will occur during April and May 2002. September 1, 2002, should be used as the proposed start date on proposals.

ADDRESSES: Applications should be sent to: Office of Global Programs, National Oceanic and Atmospheric Administration, 1100 Wayne Avenue, Suite 1210, Silver Spring, MD 20910-5603.

FOR FURTHER INFORMATION CONTACT: Irma duPree at the above address, phone: (301) 427-2089 ext. 107, e-mail: irma.dupree@noaa.gov.

SUPPLEMENTARY INFORMATION: The notice describing the Program and funding area descriptions for FY 2002 was published on May 16, 2001 (66 FR 27070-75) in a notice entitled NOAA Climate and Global Change Program. The program description, background and requirements, as well as guidelines for applications are included in that notice and are not repeated here.

Global Carbon Cycle (GCC): The U.S. Interagency Carbon Cycle Science Program (CCSP) seeks to answer two overarching questions: (1) How large and variable are the dynamic reservoirs and fluxes of carbon within the Earth system, and how might carbon cycling change and be changed in future years, decades and centuries?, and (2) What are our options for managing carbon sources and sinks to achieve an appropriate balance of risk, costs, and benefits to society? For more detailed information on interagency priorities, science planning and agency roles, please consult the Internet at: http://www.carboncyclescience.gov.

NOAA's participation in the CCSP focuses on three main goals: (1) Quantifying spatial patterns and variability of carbon sources and sinks at global to regional scales; (2) Documenting the fate of anthropogenic CO2 in the atmosphere and oceans; and (3) Improving future climate predictions by incorporating a dynamic understanding of the carbon cycle into models. To achieve these goals, the GCC program focuses on oceanic and atmospheric observations, process-oriented field studies and modeling. Information and current project abstracts can be found on the Internet at: http://www.ogp.noaa.gov/mpe/gcc/index/html

For FY 2002, GCC is soliciting projects in support of these goals in the following topic areas: (A) Global Distribution and Dynamics of Carbon Sources and Sinks; (B) Carbon budgets over North America and adjacent ocean basins; and (C) Synthesis, Modeling and Interpretative studies.

Global Distribution and Dynamics of Carbon Sources and Sinks: A variety of atmospheric, oceanic and terrestrial data has shown that the ocean and the terrestrial biosphere currently take up and store a significant portion of the carbon released to the atmosphere as a result of human activities. Preliminary progress has been made on locating sources and sinks of carbon on a regional basis and characterizing their magnitude and behavior over time. The results obtained thus far are at the limit of detection, however, and cannot be extended to many regions of the world due to lack of data.

In FY2002, GCC is seeking to augment the observational network in the ocean and atmosphere to fill in critical spatial and temporal gaps, as well as supporting research in network design, parameterization improvement, and data management.

Carbon Budgets over North America and Adjacent Ocean Basins: One region of uncertainty in the global carbon cycle budget is North America and the adjacent ocean basins. Recent studies indicate that the region may be currently taking up carbon at a significant level, however data and models needed to monitor budgets at the required spatial and temporal resolution are insufficient. Research advances now offer the opportunity to resolve the regional pattern of and mechanisms responsible for carbon dioxide uptake. In FY 2002, GCC is seeking to participate in a coordinated, interagency effort to conduct pilot observations, data assimilation, and network design in North America, and the North Atlantic and Pacific oceans.

Synthesis, Modeling and Interpretive Studies: In FY 2002, GCC is seeking studies using empirical data and synthesized datasets, existing models, data assimilation techniques, and theory to advance the ability to quantify spatial patterns and variability of carbon sources and sinks at global to regional scales; document the fate of anthropogenic CO2 in the atmosphere and oceans; and/or improve future climate predictions by incorporating a dynamic understanding of the carbon cycle into models.

For detailed information on the types of projects encouraged, please consult the GCC information sheet, posted on the Internet at: http://www.ogp.noaa.gov/mpe/gcc/index.htm. Contingent on available funding, projects awarded under this program announcement will be jointly supported by NOAA's Climate and Global Change and Climate Observations and Services Programs.

Contingent on available funding, this announcement serves as notice that NOAA and NSF will jointly consider proposals in FY 2002 to conduct a repeat hydrographic survey in support of the U.S. Carbon Cycle Science and CLIVAR Programs. Proposals for that topic should be submitted to NSF under Program Announcement NSF 02-016 via fastlane no later than March 5, 2002. Three paper copies should also be sent to NOAA/OGP by the same date.

For further technical information contact: Lisa Dilling at the above address, phone: (301) 427-2089 ext. 106, e-mail: dilling@gp.noaa.gov, or Krisa Arzayus, (301) 427-2089 ext. 183 e-mail: Krisa.arzayus@noaa.gov or see the web at: http://www.lgp.noaa.gov/mpe/gcc/index/html.

Other Requirements: The Department of Commerce Pre-Award Notification Requirements for Grants and Cooperative Agreement contained in the Federal Register notice of October 1, 2001 (66 FR 49917) are applicable to this solicitation.

Classification: It has been determined that this notice is not significant for purposes of E.O. 12866.

It has been determined that this notice does not contain policies with Federalism implications as that term is defined in E.O. 13132.

Because notice and comment are not required under 5 U.S.C. 553, or any other law, for notices relating to public property, loans, grants, benefits or contracts, a Regulatory Flexibility Analysis, 5 U.S.C. 601 et seq., is not required and has not been prepared for this notice.

Notwithstanding any other provision of law, no person is required to respond to, nor shall a person be subject to a penalty for failure to comply with, a collection of information subject to the Paperwork Reduction Act, unless that collection displays a currently valid Office of Management and Budget (OMB) control number. This notice involves collection-of-information requirements subject to the Paperwork Reduction Act. The use of Standard Forms 424, 424A, and SF-LLL have been approved by OMB under the respective control numbers 0348-0043, 0348-0044, and 0348-0046.

Authority: 49 U.S.C. 44720; 33 U.S.C. 883d, 15 U.S.C. 2904; 15 U.S.C. 2931 et seq.

David L. Evans,
Assistant Administrator, Office of Oceanic and Atmospheric Research, National Oceanic and Atmospheric Administration.

[FR Doc. 02-898 Filed 1-11-02; 8:45 am]

BILLING CODE 3510-KB-M